DEPARTMENT OF LABOR

Agency Information Collection Activities; Submission for OMB Review; Comment Request, National Guard Youth ChalleNGe Job ChalleNGe Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed.

Currently, DOL is soliciting comments concerning the collection of follow-up survey data about the National Guard Youth ChalleNGe and Job ChalleNGe Program. A copy of the proposed Information Collection Request (ICR) can be obtained by contacting the office listed in the addressee section of this notice.

DATES: Written comments must be submitted to the office listed in the addressee's section below on or before January 2, 2018.

ADDRESSES: You may submit comments by either one of the following methods:

Email: ChiefEvaluationOffice@dol.gov; Mail or Courier: Jessica Lohmann, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Jessica Lohmann by email at ChiefEvaluationOffice@dol.gov.

SUPPLEMENTARY INFORMATION:

I. Background: The National Guard Youth ChalleNGe program has demonstrated positive, sustained impacts on the educational attainment and labor market outcomes of youth who are not in school or the labor force. To build on this success, in early 2015 the Employment and Training Administration (ETA) issued $12 million in grants for three Youth ChalleNGe programs to (1) expand the program's target population to include youth who have been involved with the courts, and (2) add a five-month residential occupational training component, known as Job ChalleNGe.

The National Guard Youth ChalleNGe Job ChalleNGe Evaluation includes an outcome and an implementation study. The evaluation requires collection of three primary types of data: (1) Background and contact information, (2) program implementation details, and (3) follow-up youth outcomes. The Chief Evaluation Office (CEO) has already received OMB approval to collect the first two types of data (control number 1291-0008). The planned outcomes data collection included in this ICR will answer three main research questions: (1) How did youth experience the post-residential phase of the program?, (2) What were the employment, education, and criminal justice outcomes of Job ChalleNGe participants?, and (3) What expectations do youth have for the future?

This Federal Register Notice provides the opportunity to comment on two proposed data collection instruments for follow-up youth outcomes study:

* Text survey. Job ChalleNGe participants who are enrolled in the program between approximately July 2017 and July 2018 and give consent to participate in the evaluation (and whose parents/guardians have done so, when necessary) and permission to contact them via text message will be asked to complete a brief survey administered by text messaging on a monthly basis for 8 months, during months 8 through 15 after the youth began Job ChalleNGe. The brief survey is designed to provide snapshots of the progression over time that the respondents make in their employment, earnings, and education. For each round of monthly text message data collection, each participant will be asked to answer three to five questions. It is expected to take the participants an average of four minutes to complete each of the 8 rounds of the text survey.

* Follow-up survey. The sample for the follow-up survey is the same as for the text survey with one exception. The follow-up survey will be administered via web and permission to be contacted by text is not required to participate in the follow-up survey. The follow-up survey, to be conducted 16 months after the start of Job ChalleNGe for each cohort, covers five broad topics: (1) Participants' experiences during Job ChalleNGe, such as the services they received; (2) characteristics of a current job and their recent work search efforts, such as employment and earnings; (3) educational experiences, including attainment and future plans; (4) involvement in the court system, such as whether or not the participant was arrested and convicted of a crime; and (5) views about the value of different aspects of the Job ChalleNGe program. It is expected to take the participants an average of 15 minutes to complete the survey.

II. Desired Focus of Comments: Currently, DOL is soliciting comments concerning the above data collection for the National Guard Youth ChalleNGe Job ChalleNGe Evaluation. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology- for example, permitting electronic submission of responses.

III. Current Actions: At this time, DOL is requesting clearance for the text message survey and the follow-up survey.

Type of Review: New information collection request.

OMC Control Number: 1290—0NEW.

Affected Public: Youth participating in the Youth ChalleNGe program and the Job ChalleNGe program.

Estimated Total Burden Hours
Type of instrument | Total number respondents | Annual number of respondents | Number of responses per respondent | Average burden hour per response (hours) | Annual estimated burden hours | Total estimated burden hours
Texting Data Collection | ᵃ 351 | 117 | 8 | 0.07 | 66 | 197
Follow-up Survey | ᵇ 414 | 138 | 1 | 0.25 | 35 | 104
Total | ᶜ 765 | 255 |  |  | 101 | 301
ᵃ The text message survey will be collected from all Job ChalleNGe participants who consented to participate in the study, who provided a cell phone number to the study team, and who consented to be contacted via text messaging. The number of respondents is based on a 90% study consent rate × an 85% consent to text rate × an 85% response rate.
ᵇ The follow-up survey will be collected from all Job ChalleNGe participants who consented to participate in the study. The number of respondents is based on a 90% study participation consent rate × an 85% response rate.
ᶜ Most youth participating in the text data collection will also participate in the follow-up data collection. Therefore, the table provides an upper estimate of the number of separate respondents.

Form(s): Total respondents: 765 youth. Most youth participating in the text data collection will also participate in the follow-up data collection. Therefore, this estimate provides an upper estimate of the number of separate respondents.

Annual Frequency: Eight times for the text survey and one time for the follow-up survey.

Comments submitted in response to this request will be summarized and/or included in the request for Office of Management and Budget approval of the information collection request; they will also become a matter of public record.

Dated: October 27, 2017.
Molly Irwin,
Chief Evaluation Officer, U.S. Department of Labor.

[FR Doc. 2017-24003 Filed 11-2-17; 8:45 am]

BILLING CODE 4510-HX-P